DEPARTMENT OF THE INTERIOR

Bureau of Land Management

[LLNVW01000.L144000000.FR0000.241A; 14110008; TAS: 18X; N-60081 MO#4500145980]

Notice of Realty Action: Non-Competitive Direct Sale of the Reversionary Interest and Mineral Interest in a Recreation and Public Purpose Act Patent, in Pershing County, Nevada

AGENCY: Bureau of Land Management, Interior.

ACTION: Notice of realty action.

SUMMARY: The Bureau of Land Management (BLM) intends to dispose of the reversionary interest held by the United States in a 10-acre parcel of public land in Pershing County, Nevada, pursuant to Section 203 and Section 209 of the Federal Land Policy and Management Act of October 21, 1976 (FLPMA), as amended, through a non-competitive direct sale to Pershing County. The BLM has found the reversionary interest and conveyance of the mineral interest suitable for disposal under the authority of Section 203 and Section 209 of FLPMA.

DATES: Interested parties may submit written comments regarding the direct sale on or before January 11, 2021.

ADDRESSES: Send written comments to the BLM Humboldt River Field Manager, 5100 East Winnemucca Boulevard, Winnemucca, NV 89445, or by email to wfoweb@blm.gov.

FOR FURTHER INFORMATION CONTACT: Realty Specialist Julie McKinnon at the above address, by phone at 775-623-1734, or by email at jmckinno@blm.gov. Persons who use telecommunications device for the deaf (TDD) may call the Federal Relay Service (FRS) at 1-800-877-8339 to contact the above individual during normal business hours. The FRS is available 24 hours a day, 7 seven days a week, to leave a message or question with the above individual. You will receive a reply during normal business hours.

SUPPLEMENTARY INFORMATION: The BLM patented the land to Pershing County under the Recreation and Public Purposes (R&PP) Act on May 29, 2020, with a reversionary interest to maintain, preserve, and improve the cemetery. In March 2020, while that patent was being processed, Pershing County also requested to purchase the reversionary and mineral interest.

The Unionville Cemetery dates to the 1860s when Unionville was a thriving mining camp and the seat of Humboldt County, prior to the division of Humboldt County to create Pershing County in 1919. Although it is a historic cemetery with many marked and unmarked historic graves, the residents of Unionville have used it through the present for the burial of family members.

The parcel is located on the lands described below in Pershing County, Nevada:

Mount Diablo Meridian, Nevada

T. 30 N., R. 34 E.,

Sec. 24, SE¼NW¼SE¼SW¼, SW¼NW¼SE¼SW¼, NE¼SW¼SE¼SW¼, and NW¼SW¼SE¼SW¼.

The area described contains 10-acres.

The proposed non-competitive direct sale of the reversionary interest and conveyance of the mineral interest is consistent with the BLM Winnemucca Resource Management Plan (RMP) and the Record of Decision (ROD) approved in May 2015.

The BLM determined that the 10-acre cemetery parcel is suitable for disposal pursuant to Section 203 and Section 209 of FLPMA, as amended, which authorizes a sale of public lands when the Secretary determines that the proposed sale parcel, “because of its location or other characteristics is difficult and uneconomic to manage as part of the public lands, and is not suitable for management by another Federal department or agency.” The parcel is not needed for any Federal purposes; therefore, the BLM believes its disposal is in the public interest.

Pershing County has used a portion of the subject land for purposes of a cemetery, so the BLM would not wish to retain this parcel of land. The BLM determined the parcel met the criteria for disposal set forth in 43 CFR 2710.0-3(a)(3).

The land meets the criteria for direct sale under 43 CFR 2711.3-3(a), “Direct sales may be utilized, when in the opinion of the Authorized Officer, a competitive sale is not appropriate and the public interest would best be served by a direct sale.” Consistent with FLPMA Section 203(a)(3), “Disposal of such tract will serve important public objectives, including but not limited to expansion of communities and economic development . . .” The land also meets the criteria for conveyance of the Federally owned minerals under 43 CFR 2720.1-1 “Any existing or prospective record owner of the surface of land in which mineral interests are reserved or otherwise owned by the United State may file an application to purchase such mineral interests if—(1) He has reason to believe there are no known mineral values in the land . . .” and 2720.1-2 consistent with FLPMA Section 209 (b)(1) “The Secretary, after consultation with the appropriate department or agency head, may convey mineral interests owned by the United States . . .” “. . . if [the Secretary] finds (1) that there are no known mineral values in the land . . .” The parcel is within the boundaries of the town of Unionville, and Pershing County uses a portion of the subject lands for cemetery purposes. This cemetery use makes it impractical for the BLM to administer the subject lands. Therefore, the BLM believes it is in the best interest of the public to sell the reversionary interest to Pershing County by direct sale procedures pursuant to 43 CFR 2711.3-3 and 2720.1-1 and 2720.1-2.

The BLM will not offer the sale of the reversionary interest and mineral interest to Pershing County until at least January 11, 2021 at no less than the appraised fair market value of $3,250. Conveyance of the identified public land interest would be subject to valid existing rights of record and the following terms, conditions and reservations: The conveyance document issued will only transfer the reversionary interest and mineral interest retained by the United States in Patent No. 27-2020-0026 and will contain the following terms, conditions, and reservations:

1. A right-of-way thereon for ditches and canals constructed by the authority of the United States, Act of August 30, 1890 (43 U.S.C. 945);

2. Right-of-way N-59759 for road purposes, granted to Pershing County, its successor or assigns, pursuant to the Act of October 21, 1976 (43 U.S.C. 1761);

3. An appropriate indemnification clause protecting the United States from claims arising out the patentee's use, occupancy, or occupations on the patented lands; and

4. Additional terms and conditions that the authorized officer deems appropriate.

No warranty of any kind, express or implied, is given by the United States in connection with the sale or release of the reversionary interest and mineral interest. The documentation for land use conformance, NEPA procedures, a map, environmental assessment, and the appraisal report, are available for review at the BLM Winnemucca District Office located at the address listed above. The BLM prepared an Environmental Assessment (EA) document with the number DOI-BLM-NV-W010-2017-0007-EA in connection with the sale of these lands. The following is a link to the EA. https://eplanning.blm.gov/public_projects/nepa/77517/132167/161291/1-16-18_EA.pdf

Interested parties may submit written comments on the direct sale of the reversionary interest and conveyance of the mineral interest for the 10-acre parcel. Before including your address, phone number, email address, or other personally identifying information in your comment, you should be aware that your entire comment—including your personally identifying information—may be made publicly available at any time. While you can ask the BLM in your comment to withhold your personally identifying information from public review, we cannot guarantee that we will be able to do so.

Any adverse comments will be reviewed by the BLM Nevada State Director who may sustain, vacate, or modify this realty action. In the absence of timely, filed objections, the decision will become effective on January 11, 2021.

(Authority: 43 CFR 2711.1-2)

Ester M. McCullough,
Winnemucca District Manager.

[FR Doc. 2020-26153 Filed 11-25-20; 8:45 am]

BILLING CODE 4310-HC-P